POSTAL SERVICE

39 CFR Part 111

Price Marking Requirements for Commercial Base and Commercial Plus Pricing

AGENCY: Postal Service.

ACTION: Proposed rule.

SUMMARY: The Postal Service proposes new price markings on Express Mail® and Priority Mail® pieces mailed at commercial base and commercial plus prices. The new markings are needed to fulfill our revenue reporting and revenue assurance requirements.

DATES: Submit comments on or before May 4, 2009.

ADDRESSES: Mail or deliver written comments to the Manager, Mailing Standards, U.S. Postal Service, 475 L'Enfant Plaza, SW., Room 3436, Washington, DC 20260-3436. You may inspect and photocopy all written comments at USPS Headquarters Library, 475 L'Enfant Plaza, SW., 11th Floor N, Washington, DC between 9 a.m. and 4 p.m., Monday through Friday. E-mail comments, containing the name and address of the commenter, may be sent to: MailingStandards@usps.gov, with a subject line of “CBP and CPP Markings Comments.” Faxed comments are not accepted.

FOR FURTHER INFORMATION CONTACT: Monica Grein, 202-268-8411.

SUPPLEMENTARY INFORMATION:

The Postal Service proposes to revise the Mailing Standards of the United States Postal Service, Domestic Mail Manual (DMM®) to require price markings on Express Mail and Priority Mail pieces mailed at the commercial base or the commercial plus price. The new markings will help us determine which price was applied to these pieces, and verify that the pieces qualify for the price claimed. The markings must appear on pieces paid by any means except permit imprint or Express Mail Corporate Account.

Under our proposal, mailers must print—or produce as part of the meter imprint or PC Postage® indicia—“Commercial Base Price,” “Commercial Base Pricing,” or “ComBasPrice” for pieces paid at the Commercial Base price, and “Commercial Plus Price,” “Commercial Plus Pricing,” or “ComPlsPrice” for pieces paid at the Commercial Plus price. The appropriate marking must appear directly above, directly below, or to the left of the postage.

We propose to allow mailers 90 days after the publication date of the final rule to comply with the new standards, to afford mailers time to exhaust any label stock and reprogram systems.

Although we are exempt from the notice and comment requirements of the Administrative Procedure Act [5 U.S. C. 553(b), (c)], regarding proposed rulemaking by 39 U.S.C. 410(a), the Postal Service invites comments on the following proposed revision to the Mailing Standards of the United States Postal Service, Domestic Mail Manual, incorporated by reference in the Code of Federal Regulations. See 39 CFR part 111.

List of Subjects in 39 CFR Part 111

Administrative practice and procedure, Postal Service.

Accordingly, 39 CFR is proposed to be amended as follows:

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

400 Commercial Parcels

* * * * *

402 Elements on the Face of a Mailpiece

* * * * *

2.0 Placement and Content of Markings

[Renumber 2.1 through 2.5 as 2.2 through 2.6 and add new 2.1, Express Mail and Priority Mail Markings, as follows:]

2.1 Express Mail and Priority Mail Markings

Except for pieces paid using permit imprint or an Express Mail Corporate Account, Express Mail and Priority Mail pieces claiming the commercial base or commercial plus price must bear the appropriate price marking, printed on the piece or produced as part of the meter imprint or PC Postage indicia. Place the marking directly above, directly below, or to the left of the postage. Markings are as follows:

a. “Commercial Base Price,” “Commercial Base Pricing,” or “ComBasPrice.”

b. “Commercial Plus Price,” “Commercial Plus Pricing,” or “ComPlsPrice.”

* * * * *

410 Express Mail

* * * * *

415 Mail Preparation

[Reorganize and revise section 1.0 by adding a new 1.2 as follows:]

1.0 General Information for Mail Preparation

1.1 Express Mail Packaging Provided by the USPS

Express Mail packaging provided by the USPS must be used only for Express Mail. Regardless of how the packaging is reconfigured or how markings may be obliterated, any material mailed in USPS-provided Express Mail packaging is charged the appropriate Express Mail price.

1.2 Price Marking

Except for pieces paid using an Express Mail Corporate Account, Express Mail pieces claiming the commercial base or commercial plus price must bear the appropriate price marking, printed on the piece or produced as part of the meter imprint or PC Postage indicia. Place the marking directly above, directly below, or to the left of the postage. Markings are as follows:

a. “Commercial Base Price,” “Commercial Base Pricing,” or “ComBasPrice.”

b. “Commercial Plus Price,” “Commercial Plus Pricing,” or “ComPlsPrice.”

* * * * *

420 Priority Mail

* * * * *

425 Mail Preparation

* * * * *

2.0 Marking

[Reorganize and revise section 2.0 as follows:]

2.1 Product Marking

The marking “Priority Mail” must be placed prominently on the address side of each piece of Priority Mail.

2.2 Price Marking

Except for pieces paid using permit imprint, Priority Mail pieces claiming the commercial base or commercial plus price must bear the appropriate price marking, printed on the piece or produced as part of the meter imprint or PC Postage indicia. Place the marking directly above, directly below, or to the left of the postage. Markings are as follows:

a. “Commercial Base Price,” “Commercial Base Pricing,” or “ComBasPrice.”

b. “Commercial Plus Price,” “Commercial Plus Pricing,” or “ComPlsPrice.”

* * * * *

We will publish an appropriate amendment to 39 CFR part 111 to reflect these changes if our proposal is adopted.

Stanley F. Mires,
Attorney, Legislative.

[FR Doc. E9-7479 Filed 4-2-09; 8:45 am]

BILLING CODE 7710-12-P